DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Population Survey, June 2000 Fertility Supplement.

Form Number(s): This automated instrument has no form number.

Agency Approval Number: 0607-0610.

Type of Request: Reinstatement, with change, of a previously approved collection.

Burden: 250 hours.

Number of Respondents: 30,000.

Avg Hours Per Response: 30 seconds.

Needs and Uses: The Census Bureau is requesting clearance for the collection of data concerning fertility to be conducted in conjunction with the June 2000 Current Population Survey (CPS). The Census Bureau sponsors the supplement questions, which have been asked periodically since 1971. The June 2000 Supplement differs from previously conducted supplements in that it only includes fertility items. The most recent supplement, conducted in 1998, contained both fertility items and birth expectations items.

This survey provides information used mainly by government and private analysts to project future population growth, to analyze child spacing, and to aid policymakers in their decisions affected by changes in family size and composition. Past studies have discovered noticeable changes in the patterns of fertility rates and the timing of the first birth. Potential needs for government assistance, such as aid to families with dependent children, child care, and maternal health care for single parent households, can be estimated using CPS characteristics matched with fertility data.

The fertility information will be collected by both personal visit and telephone interviews in conjunction with the regular June 2000 CPS interviewing. All interviews are conducted using computer-assisted interviewing.

Affected Public: Individuals or households.

Frequency: On occasion.

Respondent's Obligation: Voluntary.

Legal Authority: Title 13 USC, Section 182.

OMB Desk Officer: Susan Schechter, (202) 395-5103.

Copies of the above information collection proposal can be obtained by calling or writing Linda Engelmeier, DOC Forms Clearance Officer, (202) 482-3272, Department of Commerce, room 5027, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: March 9, 2000.
Madeleine Clayton,
Management Analyst, Office of the Chief Information Officer.

[FR Doc. 00-6320 Filed 3-14-00; 8:45 am]

BILLING CODE 3510-07-P